DEPARTMENT OF TRANSPORTATION

Federal Aviation Administration

14 CFR Part 97

[Docket No. 30667 Amdt. No 3222]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 28, 2009. The compliance date for each SIAP, associated Takeoff Minimums, and ODP is specified in the amendatory provisions.

The incorporation by reference of certain publications listed in the regulations is approved by the Director of the Federal Register as of May 28, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 15, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 02 JUL 2009

Fairhope, AL, H L Sonny Callahan, RNAV (GPS) RWY 1, Amdt 1

Fairhope, AL, H L Sonny Callahan, RNAV (GPS) RWY 19, Amdt 1

Fairhope, AL, H L Sonny Callahan, VOR/DME-A, Amdt 6

Hamilton, AL, Marion County-Rankin Fite, RNAV (GPS) RWY 18, Orig

Hamilton, AL, Marion County-Rankin Fite, RNAV (GPS) RWY 36, Orig

Prescott, AZ, Ernest A. Love Field, RNAV (RNP) RWY 3R, Orig

Scottsdale, AZ, Scottsdale, RNAV (RNP) RWY 21, Orig

Scottsdale, AZ, Scottsdale, RNAV (RNP) Y RWY 3, Orig

Scottsdale, AZ, Scottsdale, RNAV (RNP) Z RWY 3, Orig

Chico, CA, Chico Muni, GPS RWY 13L, Orig, B, CANCELLED

Chico, CA, Chico Muni, GPS RWY 31R, Orig-C, CANCELLED

Chico, CA, Chico Muni, ILS OR LOC/DME RWY 13L, Amdt 11

Chico, CA, Chico Muni, RNAV (GPS) RWY 13L, Orig

Chico, CA, Chico Muni, RNAV (GPS) RWY 31R, Orig

San Diego/El Cajon, CA, Gillespie Field, RNAV (GPS) RWY 17, Amdt 1

Santa Maria, CA, Santa Maria Pub/Capt G Allan Hancock Fld, RNAV (GPS) RWY 30, Orig

Hayden, CO, Yampa Valley, Takeoff Minimums and Obstacle DP, Amdt 3

Titusville, FL, Space Coast Regional, ILS OR LOC RWY 36, Amdt 11

Titusville, FL, Space Coast Regional, RNAV (GPS) RWY 36, Orig

Titusville, FL, Space Coast Regional, RNAV (GPS) Z RWY 9, Orig

Burlington, IA, Southeast Iowa Rgnl, VOR/DME RWY 12, Amdt 6

Evansville, IN, Evansville Rgnl, Takeoff Minimums and Obstacle DP, Amdt 8

Fort Wayne, IN, Fort Wayne Intl, ILS OR LOC RWY 5, ILS RWY 5 (CAT II), Amdt 15

Fort Wayne, IN, Fort Wayne Intl, ILS OR LOC RWY 32, Amdt 29

Fort Wayne, IN, Fort Wayne Intl, LOC BC RWY 14, Amdt 14

Fort Wayne, IN, Fort Wayne Intl, RADAR-1, Amdt 25

Fort Wayne, IN, Fort Wayne Intl, VOR OR TACAN RWY 5, Amdt 20

Fort Wayne, IN, Fort Wayne Intl, VOR OR TACAN RWY 14, Amdt 17

Richmond, IN, Richmond Muni, ILS OR LOC RWY 24, Amdt 1

Richmond, IN, Richmond Muni, RNAV (GPS) RWY 6, Orig

Richmond, IN, Richmond Muni, RNAV (GPS) RWY 24, Orig

Richmond, IN, Richmond Muni, Takeoff Minimums and Obstacle DP, Orig

Richmond, IN, Richmond Muni, VOR RWY 6, Amdt 12

Richmond, IN, Richmond Muni, VOR RWY 24, Amdt 13

Richmond, IN, Richmond Muni, VOR RWY 33, Amdt 2

Topeka, KS, Forbes Field, GPS RWY 3, Orig, CANCELLED

Topeka, KS, Forbes Field, GPS RWY 21, Orig, CANCELLED

Topeka, KS, Forbes Field, RNAV (GPS) RWY 3, Orig

Topeka, KS, Forbes Field, RNAV (GPS) RWY 21, Orig

Topeka, KS, Forbes Field, Takeoff Minimums and Obstacle DP, Orig

Reserve, LA, St John The Baptist Parish, RNAV (GPS) RWY 35, Orig

Hyannis, MA, Barnstable Muni Boardman/Polando Field, ILS OR LOC RWY 15, Amdt 4

Hyannis, MA, Barnstable Muni-Boardman/Polando Field, ILS OR LOC RWY 24, Amdt 18

Hyannis, MA, Barnstable Muni-Boardman/Polando Field, RNAV (GPS) RWY 15, Orig

Hyannis, MA, Barnstable Muni-Boardman/Polando Field, RNAV (GPS) RWY 24, Amdt 1

Lincoln, ME, Lincoln Regional, NDB RWY 17, Amdt 1

Lincoln, ME, Lincoln Regional, RNAV (GPS) RWY 17, Orig

Lincoln, ME, Lincoln Regional, RNAV (GPS) RWY 35, Orig

Lincoln, ME, Lincoln Regional, VOR/DME-A, Amdt 2

Presque Isle, ME, Northern Main Regional Arpt at Presque Is, ILS OR LOC RWY 1, Amdt 6

Presque Isle, ME, Northern Main Regional Arpt at Presque Is, RNAV (GPS) RWY 1, Amdt 1

Presque Isle, ME, Northern Main Regional Arpt at Presque Is, RNAV (GPS) RWY 19, Orig

Presque Isle, ME, Northern Main Regional Arpt at Presque Is, RNAV (GPS) RWY 28, Amdt 1

Presque Isle, ME, Northern Main Regional Arpt at Presque Is, RNAV (GPS) Y RWY 1, Orig, CANCELLED

Kirksville, MO, Kirksville Rgnl, ILS OR LOC/DME RWY 36, Amdt 1

Kirksville, MO, Kirksville Rgnl, RNAV (GPS) RWY 18, Amdt 2

Kirksville, MO, Kirksville Rgnl, RNAV (GPS) RWY 36, Amdt 2

Kirksville, MO, Kirksville Rgnl, VOR-A, Amdt 15

Kirksville, MO, Kirksville Rgnl, VOR/DME-B, Amdt 7

Gulfport, MS, Gulfport-Biloxi Intl, RNAV (GPS) RWY 14, Amdt 1

Gulfport, MS, Gulfport-Biloxi Intl, RNAV (GPS) RWY 18, Amdt 1

Gulfport, MS, Gulfport-Biloxi Intl, RNAV (GPS) RWY 32, Amdt 1

Gulfport, MS, Gulfport-Biloxi Intl, RNAV (GPS) RWY 36, Amdt 1

Gulfport, MS, Gulfport-Biloxi Intl, Takeoff Minimums and Obstacle DP, Amdt 6

Great Falls, MT, Great Falls Intl, VOR/DME RWY 3, Amdt 17

Kalispell, MT, Glacier Park Intl, ILS OR LOC RWY 2, Amdt 6

Kalispell, MT, Glacier Park Intl, RNAV (GPS) RWY 30, Amdt 1

Kalispell, MT, Glacier Park Intl, RNAV (GPS) Z RWY 2, Amdt 2

Kalispell, MT, Glacier Park Intl, RNAV (RNP) RWY 20, Orig

Kalispell, MT, Glacier Park Intl, RNAV (RNP) Y RWY 2, Orig

Elizabethtown, NC, Curtis L Brown Jr Field, Takeoff Minimums and Obstacle DP, Orig

Roxboro, NC, Person County, ILS OR LOC RWY 6, Amdt 1

Gwinner, ND, Gwinner-Roger Melroe Field, NDB RWY 34, Amdt 2

Gwinner, ND, Gwinner-Roger Melroe Field, RNAV (GPS) RWY 16, Amdt 2

Gwinner, ND, Gwinner-Roger Melroe Field, RNAV (GPS) RWY 34, Amdt 2

Gwinner, ND, Gwinner-Roger Melroe Field, Takeoff Minimums and Obstacle DP, Orig

Columbus, NE, Columbus Muni, LOC/DME RWY 14, Amdt 8

Reno, NV, Reno/Stead, ILS OR LOC/DME RWY 32, Orig

Shirley, NY, Brookhaven, RNAV (GPS) RWY 33, Orig

Tiffin, OH, Seneca County, GPS RWY 24, Orig-A, CANCELLED

Tiffin, OH, Seneca County, RNAV (GPS) RWY 6, Orig

Tiffin, OH, Seneca County, RNAV (GPS) RWY 24, Orig

Tiffin, OH, Seneca County, Takeoff Minimums and Obstacle DP, Amdt 2

Tiffin, OH, Seneca County, VOR RWY 6, Amdt 9

Bend, OR, Bend Muni, BEND ONE Graphic Obstacle DP

Bend, OR, Bend Muni, Takeoff Minimums and Obstacle DP, Amdt 4

Pendleton, OR, Eastern Oregon Regional at Pendleton, ILS OR LOC/DME RWY 25, Amdt 25

Pendleton, OR, Eastern Oregon Regional at Pendleton, RNAV (GPS) RWY 7, Orig

Pendleton, OR, Eastern Oregon Regional at Pendleton, RNAV (GPS) RWY 11, Orig

Pendleton, OR, Eastern Oregon Regional at Pendleton, RNAV (GPS) RWY 25, Orig

Pendleton, OR, Eastern Oregon Regional at Pendleton, RNAV (GPS) RWY 29, Orig

Pendleton, OR, Eastern Oregon Regional at Pendleton, Takeoff Minimums and Obstacle DP, Amdt 3

Pendleton, OR, Eastern Oregon Regional at Pendleton, VOR RWY 7, Amdt 15

Harrisburg, PA, Harrisburg Intl, RNAV (GPS) RWY 13, Amdt 1

Harrisburg, PA, Harrisburg Intl, RNAV (GPS) RWY 31, Amdt 1

Tower City, PA, Bendigo, Takeoff Minimums and Obstacle DP, Orig

Pawtucket, RI, North Central State, GPS RWY 5, Orig, CANCELLED

Pawtucket, RI, North Central State, LOC RWY 5, Amdt 6

Pawtucket, RI, North Central State, RNAV (GPS) RWY 5, Orig

Pawtucket, RI, North Central State, VOR-A, Amdt 7

Pawtucket, RI, North Central State, VOR-B, Amdt 7

Heber City, UT, Heber City Muni-Russ McDonald Field, RNAV (GPS)-A, Amdt 1

Leesburg, VA, Leesburg Executive, Takeoff Minimums and Obstacle DP, Amdt 1

Barre/Montpelier, VT, Edward F. Knapp State, ILS OR LOC RWY 17, Amdt 6

Barre/Montpelier, VT, Edward F. Knapp State, RNAV (GPS) RWY 17, Orig

Beckley, WV, Raleigh County Memorial, VOR RWY 10, Amdt 13

Morgantown, WV, Morgantown Muni-Walter L. Bill Hart Field, RNAV (GPS) Y RWY 18, Orig

Morgantown, WV, Morgantown Muni-Walter L. Bill Hart Field, RNAV (GPS) Z RWY 18, Orig

[FR Doc. E9-12140 Filed 5-27-09; 8:45 am]

BILLING CODE 4910-13-P